FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 002206-007.

Title: California Association of Port Authorities—Northwest Marine Terminal Association Terminal Discussion Agreement.

Parties: California Association of Port Authorities and Northwest Marine Terminal Association.

Filing Party: Patti A. Fulghum, Executive Officer; Northwest Marine Terminal Association; P.O. Box 1283, Issaquah, WA 98027.

Synopsis: The amendment reflects the addition of the Port of Pasco, Washington, as a new member of the Northwest Marine Terminal Association.

Agreement No.: 009335-008.

Title: Northwest Marine Terminal Association, Inc. Agreement.

Parties: Port of Anacortes; Port of Astoria; Port of Bellingham; Port of Coos Bay; Port of Everett; Port of Grays Harbor; Port of Kalama; Port of Longview; Port of Olympia; Port of Port Angeles; Port of Portland; Port of Seattle; Port of St. Helens; Port of Tacoma; Port of Vancouver, USA; and Port of Pasco.

Filing Party: Patti A. Fulghum, Executive Officer; Northwest Marine Terminal Association; P.O. Box 1283, Issaquah, WA 98027.

Synopsis: The amendment adds the Port of Pasco, Washington as member to the agreement.

Agreement No.: 010099-060.

Title: International Council of Containership Operators.

Parties: A.P. Moller-Maersk A/S; China Shipping Container Lines Co., Ltd.; CMA. CGM, S.A.; Compañía Chilena de Navegación Interoceánica S.A.; Compania SudAmericana de Vapores S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW., Washington, DC 20006-1600.

Synopsis: The amendment would delete A.P. Moller-Maersk A/S trading as Maersk Line as a Party and would add Maersk Line A/S as a party to the agreement.

Agreement No.: 011707-013.

Title: Gulf/South America Discussion Agreement.

Parties: BBC Chartering Carriers GmbH & Co. KG, BBC Chartering & Logistic GmbH & Co. KG; Industrial Maritime Carriers L.L.C.; and Seaboard Marine, Ltd.

Filing Party: Wade S. Hooker, Esq.; 211 Central Park W; New York, NY 10024.

Synopsis: The amendment would add Caytrans BBC LLC as a party to the agreement. The Parties have requested Expedited Review.

Agreement No.: 012312-000.

Title: INARME/Mitsui OSK Lines Ltd Space Charter Agreement.

Parties: Mitsui OSK Lines Ltd and INDUSTRIA ARMAMENTO MERIDIONALE S.P.A. INARME.

Filing Party: Eric C. Jeffrey; Nixon Peabody LLP; 401 9th Street NW., Suite 900, Washington, DC 20004.

Synopsis: The amendment authorizes INARME to charter space from MOL on an “as needed/as available” basis for the transportation of new vehicles in the trade between the United States and North Europe.

By Order of the Federal Maritime Commission.
Dated: December 19, 2014.
Karen V. Gregory,
Secretary.

[FR Doc. 2014-30216 Filed 12-29-14; 8:45 am]

BILLING CODE 6730-01-P